DEPARTMENT OF COMMERCE

International Trade Administration

[A-570-901]

Certain Lined Paper Products from China: Notice of Intent to Rescind, In Part, Antidumping Duty Administrative Review and Extension of Time Limit for the Preliminary Results of Antidumping Duty Administrative Review

AGENCY: Import Administration, International Trade Administration, Department of Commerce.

EFFECTIVE DATE: June 4, 2009.

FOR FURTHER INFORMATION CONTACT: Victoria Cho or Joy Zhang, AD/CVD Operations, Office 3, Import Administration, International Trade Administration, U.S. Department of Commerce, 14th Street and Constitution Avenue, NW, Washington, DC 20230; telephone: (202) 482-5075 or (202) 482-1168, respectively.

SUPPLEMENTARY INFORMATION:

Background:

On September 2, 2008, the Department of Commerce (the Department) published a notice of opportunity to request an administrative review of the antidumping duty order on certain lined paper products (CLPP) from China. See Antidumping or Countervailing Duty Order, Finding, or Suspended Investigation; Opportunity To Request Administrative Review, 73 FR 51272 (September 2, 2008). Pursuant to a request from the Association of American School Paper Suppliers (petitioner), the Department published in the Federal Register the notice of initiation of this antidumping duty administrative review with respect to two companies:

(1) Shanghai Lian Li Paper Products Co., Ltd. (Lian Li), and (2) Watanabe Group, which consists of Watanabe Paper Products (Shanghai) Co., Ltd., Watanabe Paper Products (Lingqing) Co., Ltd., and Hotrock Stationery (Shenzhen) Co., Ltd. (collectively, Watanabe) for the period of review (POR) September 1, 2007, through August 31, 2008. See Initiation of Antidumping and Countervailing Duty Administrative Reviews and Deferral of Administrative Review, 73 FR 64305 (October 29, 2008) (Notice of Initiation).

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for loose leaf filler paper) including but not limited to such products as single- and multi-subject notebooks, composition books, wireless notebooks, loose leaf or glued filler paper, graph paper, and laboratory notebooks, and with the smaller dimension of the paper measuring 6 inches to 15 inches (inclusive) and the larger dimension of the paper measuring 8-3/4 inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated , included with, or attached to the product, cover and/or backing thereto.

Specifically excluded from the scope of this order are:

• unlined copy machine paper;

• writing pads with a backing (including but not limited to products commonly known as “tablets,” “note pads,” “legal pads,” and “quadrille pads”), provided that they do not have a front cover (whether permanent or removable). This exclusion does not apply to such writing pads if they consist of hole-punched or drilled filler paper;

• three-ring or multiple-ring binders, or notebook organizers incorporating such a ring binder provided that they do not include subject paper;

• index cards;

• printed books and other books that are case bound through the inclusion of binders board, a spine strip, and cover wrap;

• newspapers;

• pictures and photographs;

• desk and wall calendars and organizers (including but not limited to such products generally known as “office planners,” “time books,” and “appointment books”);

• telephone logs;

• address books;

• columnar pads & tablets, with or without covers, primarily suited for the recording of written numerical business data;

• lined business or office forms, including but not limited to: pre-printed business forms, lined invoice pads and paper, mailing and address labels, manifests, and shipping log books;

• lined continuous computer paper;

• boxed or packaged writing stationary (including but not limited to products commonly known as “fine business paper,” “parchment paper,” and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book), measuring 6 inches by 9 inches;

Also excluded from the scope of this order are the following trademarked products:

• Fly™ lined paper products: A notebook, notebook organizer, loose or glued note paper, with papers that are printed with infrared reflective inks and readable only by a Fly™ pen-top computer. The product must bear the valid trademark Fly™ (products found to be bearing an invalidly licensed or used trademark are not excluded from the scope).

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™ (products found to be bearing an invalidly licensed or used trademark are not excluded from the scope).

• FiveStar®Advance™ : A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1” wide elastic fabric band. This band is located 2-3/8” from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar Advance (products found to be bearing an invalidly licensed or used trademark are not excluded from the scope).

• FiveStar Flex™ : A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™ (products found to be bearing an invalidly licensed or used trademark are not excluded from the scope).

Merchandise subject to this order is typically imported under headings 4820.10.2050, 4810.22.5044, 4811.90.9050, 4811.90.9090, 4820.10.2010, 4820.10.2020, and 4820.10.4000 of the Harmonized Tariff Schedule of the United States (HTSUS). The HTSUS headings are provided for convenience and customs purposes; however, the written description of the scope of the order is dispositive.

Intent to Rescind the 2007-2008 Administrative Review, in Part

On November 13, 2008, Lian Li submitted a letter certifying that it did not have any shipments of subject merchandise during the POR. The Department conducted an internal Customs data query on November 13, 2008, to investigate Lian Li's claim, and found that Lian Li had made shipments to the United States during the POR, which were entered under the Harmonized Tariff Schedule of the United States (HTSUS) numbers for subject merchandise. See Memorandum to File from Joy Zhang titled “Internal Customs Data Query,” dated December 2, 2008. Therefore, on December 2, 2008, the Department issued a questionnaire to Lian Li.

On January 9, petitioner filed comments on Lian Li's no shipment claim, asking the Department to request product samples from Lian Li. On January 29, 2009, Lian Li submitted product samples of the merchandise it exported to the United States during the POR, which Lian Li claimed were non-subject merchandise. On March 4, 2009, counsel for petitioner inspected Lian Li's product samples. See Memorandum to the File from Joy Zhang titled “Inspecting the Product Samples by Counsel for the Association of American School Paper Supplies,” dated March 4, 2009.

Based on a review of the product samples submitted by Lian Li and the Customs data, we preliminarily determine that the samples are not subject merchandise, and that Lian Li did not export subject merchandise to the United States during the POR.

In accordance with 19 CFR § 351.213(d)(3), the Department may rescind an administrative review, “with respect to a particular exporter or producer, if the Secretary concludes that, during the period covered by the review, there were no entries, exports, or sales of the subject merchandise, as the case may be.” Because we determined that Lian Li did not export subject merchandise to the United States during the POR, pursuant to 19 CFR § 351.213(d)(3), and consistent with our practice, we preliminarily determine to rescind this review with respect to Lian Li. See, e.g., Welded Carbon Steel Pipe and Tube from Turkey: Notice of Intent to Rescind Antidumping Duty Administrative Review, In Part, 73 FR 60240 (October 10, 2008), and Certain Frozen Warmwater Shrimp From India: Final Results and Partial Rescission of Antidumping Duty Administrative Review, 73 FR 40492 (July 15, 2008).

After the preliminary partial rescission of Lian Li, only one respondent, Watanabe, remains in this review.

Public Comment

An interested party may request a hearing within 30 days of publication of this preliminary notice. See 19 CFR § 351.310(c). Any hearing, if requested, will be held 44 days after the date of publication of this preliminary notice, or the first working day thereafter. Interested parties may submit case briefs no later than 30 days after the date of publication of this preliminary notice. See 19 CFR § 351.309(c)(ii). Rebuttal briefs, limited to issues raised in such briefs, may be filed no later than five days after the time limit for filing the case brief 19 CFR § 351.309(d). Parties who submit arguments are requested to submit with the argument (1) a statement of the issue, (2) a brief summary of the argument, and (3) a table of authorities. Further, parties submitting written comments should provide the Department with an additional copy of the public version of any such comments on diskette. The Department will issue the final notice, which will include the results of its analysis of issues raised in any such comments, or at a hearing, if requested, within 120 days of publication of this preliminary notice.

Extension of Time Limit of Preliminary Results

The preliminary results of this review are currently due no later than June 2, 2009. Section 751(a)(3)(A) of the Tariff Act of 1930, as amended (the Act), requires the Department to make a preliminary determination in an administrative review within 245 days after the last day of the anniversary month of an order or finding for which a review is requested. Consistent with section 751(a)(3)(A) of the Act, the Department may extend the 245-day period to 365 days if it is not practicable to complete the review within a 245-day period.

We determine that completion of the preliminary results of this review within the 245-day period is not practicable. Specifically, on January 8, 2009, Watanabe claimed that it did not export subject merchandise to the United States during the POR. However, based on our internal Customs data query, we found that Watanabe made shipments to the United States during the POR, which entered under the HTSUS numbers for subject merchandise.¹ Therefore, we requested that Watanabe respond to the Department's questionnaire. The issue raised by Watanabe has resulted in a delay in Watanabe's response to the Department's questionnaire. In addition, we need additional time to thoroughly review the response to the original questionnaire and to allow time to issue supplemental questionnaires, if deemed necessary.

¹ See Internal Customs data query, Second Administrative Review of the Antidumping Duty Order on Certain Lined Paper Products from China, Memorandum to the File, from Joy Zhang, Case Analyst, through James Terpstra, Program Manager, dated January 12, 2009.

Therefore, we are extending the time period for issuing the preliminary results of review by 120 days to September 30, 2009, in accordance with section 751(a)(3)(A) of the Act and 19 CFR § 351.213(h)(2). The preliminary results are now due no later than September 30, 2009. The final results continue to be due 120 days after publication of the preliminary results.

Assessment

The Department will instruct U.S. Customs and Border Protection (CBP) to assess antidumping duties on all appropriate entries. For the company for which this review is rescinded, antidumping duties shall be assessed at rates equal to the cash deposit of estimated

antidumping duties required at the time of entry, or withdrawal from warehouse, for consumption, in accordance with 19 CFR § 351.212(c)(1)(i).

This notice is issued and published in accordance with sections 751(a)(1), 751(a)(3)(A) , and 777(i)(1) of the Act, and 19 CFR § 351.213(d)(4).

Dated: May 29, 2009.
John M. Andersen,
Acting Deputy Assistant Secretary for Antidumping and Countervailing Duty Operations.

[FR Doc. E9-13069 Filed 6-3-09; 8:45 am]

BILLING CODE 3510-DS-S